INTERNATIONAL TRADE COMMISSION

[Investigation Nos. 701-TA-729-730 and 731-TA-1698-1699 (Final)]

Brake Drums From China and Turkey; Determinations

On the basis of the record ¹ developed in the subject investigations, the United States International Trade Commission (“Commission”) determines, pursuant to the Tariff Act of 1930 (“the Act”), that an industry in the United States is materially injured by reason of imports of brake drums from China and Turkey, provided for in subheading 8708.30.50 of the Harmonized Tariff Schedule of the United States, that have been found by the U.S. Department of Commerce (“Commerce”) to be sold in the United States at less than fair value (“LTFV”) and subsidized by the governments of China and Turkey.²

¹ The record is defined in § 207.2(f) of the Commission's Rules of Practice and Procedure (19 CFR 207.2(f)).

² 90 FR 25999, 26002, 26008, and 26011 (June 18, 2025).

Background

The Commission instituted these investigations effective June 20, 2024, following receipt of petitions filed with the Commission and Commerce by Webb Wheel Products, Inc., Cullman, Alabama. The final phase of the investigations was scheduled by the Commission following notification of preliminary determinations by Commerce that imports of brake drums from China and Turkey were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 7, 2025 (90 FR 9162). The Commission conducted its hearing on June 17, 2025.

The Commission made these determinations pursuant to §§ 705(b) and 735(b) of the Act (19 U.S.C. 1671d(b) and 19 U.S.C. 1673d(b)). It completed and filed its determinations in these investigations on August 4, 2025. The views of the Commission are contained in USITC Publication 5651 (August 2025), entitled Brake Drums from China and Turkey: Investigation Nos. 701-TA-729-730 and 731-TA-1698-1699 (Final).

By order of the Commission.
Issued: August 4, 2025.
Lisa Barton,
Secretary to the Commission.

[FR Doc. 2025-14994 Filed 8-6-25; 8:45 am]

BILLING CODE 7020-02-P